NUCLEAR REGULATORY COMMISSION

[Docket Nos. 50-286 and 50-333; ASLBP No. 16-950-01-LA-BD01]

Entergy Nuclear Operations, Inc.; Establishment of Atomic Safety and Licensing Board

Pursuant to delegation by the Commission, see 37 FR 28,710 (Dec. 29, 1972), and the Commission's regulations, see, e.g., 10 CFR 2.104, 2.105, 2.309, 2.313, 2.318, and 2.321, notice is hereby given that an Atomic Safety and Licensing Board (Board) is being established to preside over the following proceeding:

Entergy Nuclear Operations, Inc., (Indian Point Nuclear Generating Unit No. 3 and James A. Fitzpatrick Nuclear Power Plant)

This proceeding involves a challenge to, inter alia, an amendment request that would transfer the beneficial interest in the Power Authority of the State of New York (PASNY) Master Decommissioning Trust, including all rights and obligations thereunder, held by PASNY for Indian Point Nuclear Generating Unit No. 3 in Westchester County, New York, and the James A. Fitzpatrick Nuclear Power Plant in Oswego County, New York, to Entergy Nuclear Operations, Inc. (ENO). On November 1, 2016, Susan H. Shapiro filed a hearing request (dated September 15, 2016) on behalf of the Indian Point Safe Energy Coalition, et al., that relates to a September 27, 2016 Federal Register notice, 81 FR 66,301, 66,305 (2016), that provided “opportunity to request a hearing and petition for leave to intervene” regarding ENO's amendment request dated August 16, 2016.

The Board is comprised of the following Administrative Judges:

Paul S. Ryerson, Chairman, Atomic Safety and Licensing Board Panel, U.S. Nuclear Regulatory Commission, Washington, DC 20555-0001

Ronald M. Spritzer, Atomic Safety and Licensing Board Panel, U.S. Nuclear Regulatory Commission, Washington, DC 20555-0001

Dr. Michael F. Kennedy, Atomic Safety and Licensing Board Panel, U.S. Nuclear Regulatory Commission, Washington, DC 20555-0001

All correspondence, documents, and other materials shall be filed in accordance with the NRC E-Filing rule. See 10 CFR 2.302.

Rockville, Maryland, November 18, 2016.
E. Roy Hawkens,
Chief Administrative Judge, Atomic Safety and Licensing Board Panel.

[FR Doc. 2016-28556 Filed 11-25-16; 8:45 am]

BILLING CODE 7590-01-P